DEPARTMENT OF DEFENSE

Department of the Army; Corps of Engineers

Notice of Intent To Prepare a Draft Areawide Environmental Impact Statement for Phosphate Mining Affecting Waters of the United States in the Central Florida Phosphate District (CFPD)

AGENCY: Department of the Army, U.S. Army Corps of Engineers, DoD.

ACTION: Notice of Intent (NOI).

SUMMARY: The U.S. Army Corps of Engineers (Corps), Jacksonville District, has received permit applications for Department of the Army permits under Section 404 of the Clean Water Act (CWA) from phosphate mining companies in Central and Southwest Florida to discharge fill in Waters of the United States for the purpose of phosphate ore extraction (i.e., creation of new phosphate mines, expansions of existing mines, and construction of attendant facilities) within the CFPD. The three specific projects being considered, and their Department of the Army file numbers, are CF Industries' South Pasture Extension (SAJ-1993-01395), Mosaic Fertilizer LLC's Four Corners Surface Tract (1995-00794), and Mosaic Fertilizer LLC's Ona Mine (SAJ-1998-02067). The Corps has determined that, when viewed collectively, the separate proposed phosphate mining-related projects have similarities that provide a basis for evaluating their environmental consequences together in one comprehensive environmental impact statement. As part of the permit review process, the Corps is evaluating the environmental effects of these similar actions.

The primary Federal involvement associated with the Proposed Action is the discharge of dredged or fill material into Waters of the United States, including jurisdictional wetlands. Issuance of Federal authorizations for the Proposed Activities would constitute a “Major Federal Action.” Based on the continued applications for expanded mining in the CFPD, the size of the project area, the CFPD characteristics, and the potential environmental impacts, both individually and cumulatively, of the Proposed Action, the Corps will prepare an Areawide Environmental Impact Statement (AEIS) in compliance with the National Environmental Policy Act (NEPA) to render a final decision on the permit applications.

The Corps' decision will be to either issue, issue with modifications, or deny Department of the Army permits for the Proposed Action. The Draft AEIS (DAEIS) is intended to be sufficient in scope to address Federal, State, and local requirements and environmental issues concerning the Proposed Action and permit reviews. The U.S. Environmental Protection Agency (U.S. EPA) has agreed to be a cooperating agency on the study.

DATES: The Corps plans to hold public scoping meetings on March 23 and 25, 2011 at 6:30 p.m. Eastern Standard Time (EST).

ADDRESSES: The first meeting will be held March 23, 2011 at 6:30 p.m. EST at the The Lakeland Center, 701 West Lime Street, Lakeland, FL 33815, 863-834-8100. The second meeting will be held March 25, 2011 at 6:30 p.m. EST at the Charlotte Harbor Event Center, 75, Taylor Street, Punta Gorda, FL, 33950, 941-833-5444.

FOR FURTHER INFORMATION CONTACT: Questions about the Proposed Action and Draft AEIS should be directed to Mr. John Fellows, Corps Regulatory Project Manager, by telephone at (813) 769-7067 or by e-mail at John.P.Fellows@usace.army.mil. Written comments should be addressed to the U.S. Army Corps of Engineers, Attn: Mr. John Fellows, 10117 Princess Palm Avenue, Suite 120, Tampa, FL 33610-8302 or by facsimile at (813) 769-7061.

SUPPLEMENTARY INFORMATION: a. Project Background and Authorization. The Corps will study the environmental impacts of the Proposed Action within the CFPD. The CFPD consists of an area of approximately 1.32 million acres (or +/−2,100 sq mi) in Hardee, Hillsborough, Manatee, Polk, and DeSoto counties (an area of approximately 1,000 acres within Sarasota County is also included in the CFPD). Mining in the CFPD has occurred for over 100 years.

The Corps has issued CWA Section 404 permits for phosphate mining in the region since 1977, with some existing permits authorizing mining through 2028. The Corps has determined as recently as June 2010 that the cumulative effects, past, present and reasonably foreseeable, of phosphate mining from 1977 to 2028 in the Peace River watershed, part of which lies within the CFPD Region, had not reached the significance threshold. Based on the continued applications for expanded mining in the CFPD and the need for additional information on the cumulative effects of past, present, and reasonably foreseeable actions throughout the CFPD, the AEIS will consider the potential for significant cumulative effects of the proposed phosphate mines and mine expansions in the CFPD.

b. Purpose and Need. The basic purpose of the proposed action is to mine phosphate ore. The overall purpose is to mine phosphate ore from reserves located within the CFPD. The Corps recognizes that there is a public and private need for phosphate.

c. Prior EAs, EISs. The U.S. EPA issued a final Areawide EIS on the Central Florida Phosphate Industry in November 1978.

d. Alternatives. An evaluation of alternatives to the Applicants' preferred alternative initially being considered includes a No Action alternative, alternatives that would avoid, minimize, and mitigate impacts to the aquatic resources within the CFPD, alternative practices or analysis methods for minimizing or evaluating cumulative effects of mining, and other reasonable alternatives that will be developed through the project scoping process which may also meet the identified purpose and need.

e. Issues. The following issues have been identified for analysis in the DAEIS. This list is preliminary and is intended to facilitate public comment on the scope of the DAEIS. The DAEIS will consider the effects on Federally listed threatened and endangered species, health and safety, socioeconomics, aesthetics, general environmental concerns, wetlands and other aquatic resources, historic properties, cultural resources, fish and wildlife values, land use, transportation, recreation, water supply and conservation, water quality, energy needs, mineral needs, considerations of property ownership, in general, the needs and welfare of the people, and other issues identified through scoping, public involvement, and interagency coordination. At the present time, the primary areas of environmental concern are the loss of wetland functions and value, mitigation of such losses, the effect of proposed mining on groundwater and surface water quality, and potential cumulative effects. The issues of concern and the methods used to evaluate those issues will be defined through the scoping process.

f. Scoping Process. CEQ regulations (40 CFR 1501.7) require an early and open process for determining the scope of an EIS and for identifying significant issues related to the proposed action. The Corps is furnishing this notice to advise other Federal and State agencies, affected Federally recognized Tribes, and the public of our intentions. This notice announces the initiation of a 45-day scoping period which requests the public's involvement in the scoping and evaluation process of the DEIS. Stakeholders will be notified through advertisements, public notices and other means. All parties who express interest will be given an opportunity to participate in this process. The process allows the Corps to obtain suggestions and information on the scope of issues and an opportunity to provide reasonable alternatives to be included in the Draft AEIS. (See DATES and ADDRESSES for meeting schedules)

g. Public Involvement. The Corps invites Federal agencies, American Indian Tribal Nations, State and local governments, and other interested private organizations and parties to attend the public scoping meetings and provide comments in order to ensure that all significant issues are identified and the full range of issues related to the permit request are addressed.

h. Coordination. The proposed action is being coordinated with a number of Federal, State, regional, and local agencies including but not limited to the following: U.S. Fish and Wildlife Service, U.S. National Marine Fisheries Service, U.S. Environmental Protection Agency, U.S. Department of Agriculture, Florida Department of Environmental Protection, Southwest Florida Water Management District, Florida State Historic Preservation Officer, local counties, and other agencies as identified in scoping, public involvement, and agency coordination.

i. Agency Role. The Corps will be the lead agency for the AEIS. The U.S. EPA has agreed to be a cooperating agency. The Corps expects to receive input and critical information from the U.S. Fish and Wildlife Service, United States Geological Service, and other Federal, State, and local agencies.

j. Availability of the Draft AEIS. The Corps currently expects the DAEIS to be made available to the public by October 2011. A public meeting will be held during the public comment period for the DAEIS. Written comments will be accepted at the meeting.

Dated: February 9, 2011.
Donald W. Kinard,
Chief, Regulatory Division.

[FR Doc. 2011-3738 Filed 2-17-11; 8:45 am]

BILLING CODE 3720-58-P